DEPARTMENT OF ENERGY

Federal Energy Regulatory Commission

[Project No. 5218-003]

City of San Luis, Obispo, California; Notice of Comment Period Extension

On January 18, 2019, the Commission issued a notice through the FERC eLibrary system ¹ setting February 19, 2019, as the end of the formal period to file comments, motions to intervene, and protests for the notice of application to surrender the San Luis Obispo Hydroelectric Project No. 5218. Due to the funding lapse at certain federal agencies between December 22, 2018 and January 25, 2019, the Commission is extending the comment period until March 6, 2019.

¹ Go to http://elibrary.ferc.gov:0/idmws/file_list.asp?document_id=14737577 and select the file link to view the document.

Dated: February 27, 2019.
Kimberly D. Bose,
Secretary.

[FR Doc. 2019-04395 Filed 3-11-19; 8:45 am]

BILLING CODE 6717-01-P